DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for public transportation projects in the following metropolitan areas: Brownsville, Texas; Chicago, Illinois; Dayton, Ohio; San Francisco, California; and Washington, DC. The purpose of this notice is to announce publicly the environmental decisions by FTA on the subject projects and to activate the limitation on any claims that may challenge these final environmental actions.

DATES: By this notice, FTA is advising the public of final agency actions subject to Title 23 United States Code (USC) § 139(l). A claim seeking judicial review of the FTA actions announced herein for the listed public transportation projects will be barred unless the claim is filed on or before June 4, 2007.

FOR FURTHER INFORMATION CONTACT: Joseph Ossi, Environmental Protection Specialist, Office of Planning and Environment, 202-366-1613, or Christopher Van Wyk, Office of Chief Counsel, 202-366-1733. FTA is located at 400 Seventh Street, SW., Washington, DC 20590. Office hours are from 9 a.m. to 5:30 p.m., e.t., Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA), and in other documents in the FTA administrative record for the project. The final agency environmental decision documents—Records of Decision (RODs) or Findings of No Significant Impact (FONSIs)—for the listed projects are available online at http://www.fta.dot.gov/planning/environment/planning_environment_documents.html or may be obtained by contacting the FTA Regional Office for the metropolitan area where the project is located. Contact information for the FTA Regional Offices may be found at http://www.fta.dot.gov.

This notice applies to all FTA decisions on the listed projects as of the issuance date of this notice and all laws under which such actions were taken, including, but not limited to, the National Environmental Policy Act (NEPA) [42 U.S.C. 4321-4375], Section 4(f) of the Department of Transportation Act of 1966 [49 U.S.C. 303], Section 106 of the National Historic Preservation Act [16 U.S.C. 470f], and the Clean Air Act [42 U.S.C. 7401-7671q].

The projects and actions that are the subject of this notice are:

1. Project name and location: Multimodal Terminal Facility; Brownsville, Texas. Project sponsors: City of Brownsville and the Brownsville Urban System (BUS). Project description: The project is the construction of a multimodal facility in the Brownsville central business district. The facility includes a bus terminal with bus bays and canopies, and automobile parking on a 5-acre site. Final agency action: FONSI issued August 21, 2006. Supporting documentation: Final Environmental Assessment: Multimodal Terminal Facility, August 2006.

2. Project name and location: Long Lake Station Parking Expansion; metropolitan Chicago, Illinois. Project sponsor: Metra Commuter Rail. Project description: Construction of parking facilities at the existing Metra Commuter Rail Station in the Village of Round Lake in Illinois. Final agency action: FONSI issued on July 18, 2006. Supporting documentation: Environmental Assessment, June 2006.

3. Project name and location: Market Street Plaza Improvement; Dayton, Ohio. Project sponsor: Greater Dayton Regional Transit Authority. Project description: The project is the construction of an off-street bus terminal and layover area on the block bounded by Third and Fourth streets, and Main and Jefferson streets in Dayton. The site is currently occupied by the vacant Admiral Benbow hotel building, which will be demolished. Final agency actions: FONSI issued on August 1, 2006; Section 106 Finding of No Adverse Effect. Supporting documentation: Environmental Assessment, June 2006.

4. Project name and location: BART Warm Springs Extension Project; metropolitan San Francisco, California. Project sponsors: San Francisco Bay Area Rapid Transit District (BART). Project description: This project is a 5.4-mile extension of the BART heavy rail system on the east side of San Francisco Bay from its current terminus at the Fremont Station in Fremont to a new station in Warm Springs. The extension will also include a new station at Irvington if sufficient funding is available. Final agency actions: ROD issued on October 24, 2006; Section 4(f) finding; Section 4(f) de minimis impact finding; Section 106 Memorandum of Agreement; project-level Air Quality Conformity determination; consultation with the U.S. Department of the Interior (DOI) under Section 7 of the Endangered Species Act, resulting in DOI's issuance of a Biological Opinion. Supporting documentation: Final Environmental Impact Statement and Section 4(f) Evaluation: BART Warm Springs Extension issued on July 14, 2006.

5. Project name and location: Dulles Corridor Metrorail Project; metropolitan Washington, DC. Project sponsors: Virginia Department of Rail and Public Transportation, Washington Metropolitan Area Transit Authority (WMATA), and Metropolitan Washington Airports Authority. Project description: The project is an extension of the Washington regional Metrorail system in Fairfax and Loudoun Counties, Virginia. It will include approximately 23 miles of electrically-powered rapid rail transit operating in exclusive right-of-way with at-grade, aerial, and subway sections, 11 new stations, parking facilities, new and improved yard and shop facilities, new rail vehicles, and related systems and equipment. The project has two phases with the first phase extending from the existing Metrorail Orange Line near the West Falls Church Station through Tysons Corner to a temporary terminus at Wiehle Avenue in Reston. The second phase of the project will extend west of Wiehle Avenue to Dulles International Airport and eastern Loudoun County. Between Tysons Corner and the Airport, the project is generally aligned in the median of the Dulles International Airport Access Highway. Final agency actions: Amended ROD issued on November 17, 2006; Section 4(f) finding; Section 106 Memorandum of Agreement; project-level Air Quality Conformity determination. Supporting documentation: Final Environmental Impact Statement issued on December 23, 2004; Environmental Assessment, February 2006.

Issued on: November 28, 2006.
Brigid Hynes-Cherin,
Associate Administrator, for Planning and Environment, Washington, DC.

[FR Doc. E6-20390 Filed 12-1-06; 8:45 am]

BILLING CODE 4910-57-P